DEPARTMENT OF DEFENSE

Department of the Air Force

Notice of Intent To Prepare an Environmental Impact Statement for Joint Pacific Alaska Range Complex Regional Special Activity Airspace Optimization Program

AGENCY: Department of Defense, Department of the Air Force.

ACTION: Notice of Intent.

SUMMARY: The Department of the Air Force (DAF), in cooperation with the Federal Aviation Administration, is issuing this Notice of Intent (NOI) to prepare an Environmental Impact Statement (EIS) to assess the potential social, economic, and environmental impacts associated with optimization of the Joint Pacific Alaska Range Complex (JPARC).The Department of the Army and Department of the Navy are also cooperating agencies. The DAF is requesting the public participate in the National Environmental Policy Act (NEPA) review process by providing comments on the alternatives and information, studies, or analysis relevant to the Proposed Action. The Unique Identification Number for this EIS is EISX-007-57-UAF-1756971595.

DATES: A public scoping period of 30 days will take place starting from the date of publication of this NOI in the Federal Register. Comments will be accepted at any time during the environmental impact analysis process; however, to ensure DAF has sufficient time to consider public scoping comments during preparation of the Draft EIS, please submit comments within the defined scoping period. A schedule is provided on the project website (www.JPARCairspaceEIS.com) and will be updated as the NEPA process progresses. At this time, the Draft EIS is expected to be released early 2027 and the Final EIS and Record of Decision are expected to be released in 2028.

DAF invites the public, stakeholders, other interested parties, and applicable Federal State, Tribal, and local agencies and governments to participate in a public scoping meeting. Four (4) virtual scoping meetings are being held on the following dates and times (Alaska Time):

• Saturday, January 24, 2026, 10:00 a.m.

• Monday, January 26, 2026, 6:00 p.m.

• Wednesday, January 28, 2026, 6:00 p.m.

• Thursday, January 29, 2026, 10:00 a.m.

The meetings are being advertised in 10 regional and local newspapers and Public Notices are being sent to public schools and post offices beneath proposed JPARC Special Activity Airspace (SAA). Please see the project website for details on how to participate in the virtual meetings and to view informational materials (www.JPARCairspaceEIS.com).

ADDRESSES: Written scoping comments can be submitted via the project website (www.JPARCairspaceEIS.com) or via postal mail to JPARC Airspace EIS, c/o Stantec, 501 Butler Farm Rd., Suite H, Hampton, VA 23666.

FOR FURTHER INFORMATION CONTACT: For inquiries regarding accommodations under the Americans with Disabilities Act or questions regarding the Proposed Action, scoping, and EIS development please contact Victoria Hernandez, NEPA Project Manager at AFCEC.CIE.AirspaceWorkflow@us.af.mil, or by phone at 380-458-0359.

SUPPLEMENTARY INFORMATION: The EIS will analyze the potential impacts from optimizing the regional training environment necessary for 4th and 5th Generation aircrews to accomplish current and future Tactics, Techniques, and Procedures (TTPs) within JPARC SAA by addressing critical deficiencies in the size, dimensions, and attributes of the SAA; spatial discontinuities between adjacent SAA sections; and inability to perform uninterrupted flight at low altitude. The purpose of the Proposed Action is to facilitate training that ensures increased aircrew survivability and combat effectiveness. The need for the Proposed Action is to address the lack of required SAA at JPARC to accomplish current and future TTPs driven by evolving adversary threats.

To address the critical deficiencies and support required training, the following actions are necessary: redesign SAA in the existing northern JPARC, establish new SAA in the Gulf of Alaska, and establish two new large areas of SAA in the western area of Alaska to replace the existing, smaller fragmented SAA. DAF is considering three alternatives to implement the Proposed Action and the No Action Alternative. All of the action alternatives include several specific actions to expand and redesign the North JPARC SAA and establish new SAA over the Gulf of Alaska to include two Warning Areas and two Military Operations Areas (MOAs) along with associated Air Traffic Control Assigned Airspace (ATCAAs). Each action alternative also includes establishing two new large West complexes that would each include an MOA and associated ATCAAs, but they vary by location: Neacola and Yeti (Alternative 1), Bettles and Yeti (Alternative 2), and Neacola and Tanana (Alternative 3).

For the No Action Alternative, DAF would not implement changes to the current JPARC airspace structure. Use of the JPARC for day-to-day training and MFEs would continue as it does currently.

The DAF and Cooperating Agencies will consider comments on alternatives or effects and on relevant information, studies, or analyses with respect to the Proposed Action. The Draft EIS will include an analysis of the potential impacts to the human environment such as ecological, aesthetic, historic, cultural, economic (such as the effects on employment), social, or health effects, to include noise, airspace management, air quality, and biological resources.

Crystle C. Poge,
Air Force Federal Register Liaison Officer.

[FR Doc. 2026-00146 Filed 1-7-26; 8:45 am]

BILLING CODE 3911-44-P